DEPARTMENT OF TRANSPORTATION

Federal Highway Administration

Notice of Final Actions for the Tier 1 Environmental Impact Statement (EIS) for the Sonoran Corridor Between Interstate 19 (I-19) and Interstate 10 (I-10), South of the Tucson International Airport in Pima County, Arizona

AGENCY: Arizona Department of Transportation (ADOT), Federal Highway Administration (FHWA).

ACTION: Notice.

SUMMARY: This notice announces actions taken by the Federal Highway Administration (FHWA) and the Arizona Department of Transportation (ADOT) that are final. The actions relate to the Tier 1 EIS study associated with the Sonoran Corridor between I-19 and I-10, south of the Tucson International Airport in Pima County, Arizona. The public is advised that FHWA issued a ROD which signifies the conclusion of the Sonoran Corridor Tier 1 EIS study. The ROD is combined with the Tier 1 Final EIS prepared by FHWA and ADOT.

DATES: By this notice, FHWA is advising the public of final agency actions subject to 23 U.S.C. 139(l)(1). A claim seeking judicial review of the Federal agency actions on the Sonoran Corridor Tier 1 EIS will be barred unless the claim is filed on or before April 14, 2022. If this date falls on a Saturday or Sunday, or legal holiday, parties are advised to file their claim no later than the business day preceding this date. If the Federal law that authorizes judicial review of a claim provides a time period of less than 150 days for filing such claim, then that shorter time period still applies.

ADDRESSES: The single Sonoran Corridor Tier 1 Final EIS/ROD document is now available online at: https://azdot.gov/planning/transportation-studies/sonoran-corridor-tier-1-environmental-impact-statement. Hard copies of the single Sonoran Corridor Tier 1 Final EIS/ROD document is also available at the following locations during normal business hours: ADOT Southcentral District Office, 1221 South 2nd Avenue, Tucson, Arizona 85713, please call (520) 388-4200 to make an appointment; Joel D. Valdez Main Library, 101 North Stone Avenue, Tucson, Arizona 85701, (520) 594-5500; Joyner-Green Valley Library, 601 North La Canada Drive, Green Valley, Arizona 85614, (520) 594-5295; and Town of Sahuarita Clerk's Office, 375 West Sahuarita Center Way, Sahuarita, Arizona 85629, (520) 822-8801.

FOR FURTHER INFORMATION CONTACT: For FHWA, contact Mr. Ammon Heier, Area Engineer, Federal Highway Administration, 4000 North Central Avenue, Suite 1500, Phoenix, Arizona 85012, Email: ammon.heier@dot.gov, Telephone: (602) 382-8983. Regular office hours are from 7:30 a.m. to 4:30 p.m., Monday through Friday, except for Federal holidays. For ADOT, contact Mr. Samuel Patton, Project Manager, Arizona Department of Transportation, 206 South 17th Avenue, Phoenix, Arizona 85007, Email: spatton@azdot.gov, Telephone: (602) 712-6168. Regular office hours are from 8:00 a.m. to 5:00 p.m., Monday through Friday, except for Federal holidays. Project information can be obtained from the project website at: https://azdot.gov/planning/transportation-studies/sonoran-corridor-tier-1-environmental-impact-statement.

SUPPLEMENTARY INFORMATION: FHWA and ADOT, in cooperation with the Federal Aviation Administration, U.S. Army Corps of Engineers, U.S. Bureau of Reclamation, U.S. Environmental Protection Agency, and the Arizona Game and Fish Department, prepared a Tier 1 EIS for the Sonoran Corridor between I-19 and I-10, south of the Tucson International Airport in Pima County, Arizona in accordance with the National Environmental Policy Act (NEPA); the Council on Environmental Quality regulations implementing NEPA (40 CFR parts 1500 through 1508), FHWA's regulations implementing NEPA (23 CFR part 771), and Section 4(f) (23 CFR part 774). The Sonoran Corridor Tier 1 EIS identified Corridor Alternative 7: El Toro South to Rita Road as the Preferred Alternative. Subsequently, FHWA concurred with the selection of Corridor Alternative 7: El Toro South to Rita Road and issued a ROD for the Sonoran Corridor Tier 1 EIS study. The ROD, combined with the Tier 1 EIS pursuant to 49 U.S.C. 304a(b), 23 U.S.C. 139(n)(2), and 23 CFR 771.124, identifies and discusses all such factors that FHWA and ADOT balanced in making the decision for the Tier 1 EIS study.

Corridor Alternative 7: El Toro South to Rita Road effectively addresses transportation deficiencies that were identified in the Tier 1 EIS, and meets the overall purpose of the study, which is to identify a high priority, high-capacity, access-controlled transportation corridor that will improve the existing transportation network by affording better access to service growth areas and existing activity centers; reduce congestion and improve the Level of Service that is predicted for the study area in 2045; and provide a system linkage that improves mobility associated with regional, interstate, and international travel. Corridor Alternative 7: El Toro South to Rita Road is approximately 20.47 miles long and extends from the west at I-19 in Sahuarita, near El Toro Road, to I-10 at Rita Road. From I-19, it will travel east along a new alignment for approximately 2 miles, then travel north along an extension of Alvernon Way to Old Vail Connection Road, and then follow Old Vail Connection Road east to I-10 at Rita Road.

FHWA and ADOT initiated the Sonoran Corridor Tier 1 EIS study in May 2017. The Tier 1 EIS evaluated three Build corridor alternatives and the No-Build Alternative. The three Build corridor alternatives were 2000-ft corridors, in which a future specific 400-ft highway alignment would be identified, evaluated, and constructed during Tier 2 if selected. The Tier 1 EIS considered the evaluation of environmental, social, and economic effects of the Sonoran Corridor at a programmatic level. Since Corridor Alternative 7: El Toro South to Rita Road is identified as the Selected Alternative in the ROD issued by FHWA, future Tier 2 studies will discuss and address the site-specific details on project impacts, costs, and identify specific mitigation measures once funding to construct a highway alignment within the 2000-ft corridor area of Corridor Alternative 7: El Toro South to Rita Road is identified. Since Corridor Alternative 7: El Toro South to Rita Road is a long-term improvement that will likely be implemented in segments over time at a level of detail sufficient to move elements of the plan toward construction, a Phased Implementation Plan was included in the single Sonoran Corridor Tier 1 Final EIS/ROD document.

The actions by FHWA, ADOT, and other relevant Federal agencies and the laws under which such actions were taken, are described in the Tier 1 Draft EIS approved on October 27, 2020, the Tier 1 Final EIS/ROD approved on October 27, 2021, and in other documents in the project's file. This notice applies to all Federal agency decisions as of the issuance date of this notice and all laws under which such actions were taken, including but not limited to: National Environmental Policy Act (NEPA) [42 U.S.C. 4321 et seq.]; Federal-Aid Highway Act [23 U.S.C. 101 set seq]; Clean Air Act [42 U.S.C. 7401 et seq.]; Section 4(f) of the US Department of Transportation Act of 1966 [49 U.S.C. 303, 23 U.S.C. 138]; Endangered Species Act [16 U.S.C. 1531-1544, 1536]; Migratory Bird Treaty Act [16 U.S.C. 703-712]; The National Historic Preservation Act of 1966, [54 U.S.C. 300101 et seq.]; Archeological Resources Protection Act [16 U.S.C. 16 U.S.C. 470aa-mm ]; Archeological and Historic Preservation Act [16 U.S.C. 469]; Native American Grave Protection and Repatriation Act (NAGPRA) [25 U.S.C. 3001-3013]; Title VI of Civil Rights Act [42 U.S.C. 2000d et seq.]; American Indian Religious Freedom Act [42 U.S.C. 1996]; Farmland Protection Policy Act (FPPA) [7 U.S.C. 4201 et seq.]; Clean Water Act [33 U.S.C. 1251 et seq.]; E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The Tier 1 EIS, ROD, and other documents in the project file are available online at: https://azdot.gov/planning/transportation-studies/sonoran-corridor-tier-1-environmental-impact-statement. Please contact either FHWA or ADOT at the addresses provided above if you would like further documentation.

For the Sonoran Corridor Tier 1 EIS study, FHWA served as the Lead Agency while ADOT served as the Local Sponsoring Agency. For future Sonoran Corridor activities and Tier 2 studies, ADOT has assumed FHWA's responsibility for carrying out NEPA under two separate Memorandums of Understanding (MOU) that have been executed by FHWA and ADOT: Responsibility for Categorical Exclusions MOU pursuant to 23 U.S.C 326 (326 MOU), and Surface Transportation Project Delivery Program MOU pursuant to 23 U.S.C. 327 (327 MOU). Under these assignments, ADOT is responsible for carrying out federal environmental review responsibilities and complying with all applicable federal environmental laws, regulations, Executive Orders and policies. ADOT is solely liable for environmental decisions made on projects in Arizona funded under the Federal-aid Highway Program pursuant to either the 326 MOU or the 327 MOU.

Pursuant to Title VI of the Civil Rights Act of 1964, the Americans with Disabilities Act (ADA) and other nondiscrimination laws and authorities, ADOT does not discriminate on the basis of race, color, national origin, sex, age, or disability. Persons that require a reasonable accommodation based on language or disability should contact Joanna Bradley, ADOT Community Relations Project Manager, at (520) 388-4257. Requests should be made as early as possible to ensure the State has an opportunity to address the accommodation.

De acuerdo con el Título VI de la Ley de Derechos Civiles de 1964, la Ley de Estadounidenses con Discapacidades (ADA por sus siglas en inglés) y otras normas y leyes antidiscriminatorias, el Departamento de Transporte de Arizona (ADOT) no discrimina por motivos de raza, color, origen nacional, sexo, edad o discapacidad. Las personas que requieran asistencia (dentro de lo razonable) ya sea por el idioma o discapacidad deben ponerse en contacto con Joanna Bradley, ADOT Community Relations Project Manager, (520) 388-4257. Las solicitudes deben hacerse lo más antes posible para asegurar que el Estado tenga la oportunidad de hacer los arreglos necesarios.

(Authority: 23 U.S.C. 139(l)(1))

Issued on: November 4, 2021.
Karla S. Petty,
Arizona Division Administrator, Phoenix, Arizona.

[FR Doc. 2021-24627 Filed 11-12-21; 8:45 am]

BILLING CODE P